ENVIRONMENTAL PROTECTION AGENCY

[EPA-HQ-OECA-2010-0371; FRL-9324-9]

Agency Information Collection Activities; Submission to OMB for Review and Approval; Comment Request; NESHAP for Marine Tank Vessel Loading Operations (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before July 27, 2011.

ADDRESSES: Submit your comments, referencing docket ID number EPA-HQ-OECA-2010-0371 to (1) EPA online using http://www regulations.gov (our preferred method), or by e-mail to docket.oeca@epa.gov, or by mail to: EPA Docket Center (EPA/DC), Environmental Protection Agency, Enforcement and Compliance Docket and Information Center, mail code 28221T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Monitoring, Assistance, and Media Programs Division, Office of Compliance, Mail Code 2223A, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On June 2, 2010 (75 FR 30812), EPA sought comments on this ICR pursuant to 5 CFR 1320.8(d). EPA received no comments. Any additional comments on this ICR should be submitted to EPA and OMB within 30 days of this notice.

EPA has established a public docket for this ICR under docket ID number EPA-HQ-OECA-2010-0371, which is available for public viewing online at http://www.regulations.gov, and in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov, to either submit or view public comments, access the index listing of the contents of the docket, and to access those documents in the docket that are available electronically. Once in the system, select “docket search,” then key in the docket ID number identified above. Please note that EPA's policy is that public comments, whether submitted electronically or in paper will be made available for public viewing at http://www.regulations.gov as EPA receives them and without change, unless the comment contains copyrighted material, Confidential Business Information (CBI), or other information whose public disclosure is restricted by statute. For further information about the electronic docket, go to http://www.regulations.gov.

Title: NESHAP for Marine Tank Vessel Loading Operations (Renewal).

ICR Numbers: EPA ICR Number 1679.07, OMB Control Number 2060-0289.

ICR Status: This ICR is schedule to expire on July 31, 2011. Under OMB regulations, the Agency may continue to conduct or sponsor the collection of information while this submission is pending at OMB. An agency may not conduct or sponsor, and a person is not required to respond to, a collection of information unless it displays a currently valid OMB control number. The OMB control numbers for EPA's regulations in title 40 of the CFR, after appearing in the Federal Register when approved, are listed in both 40 CFR part 9 and 48 CFR chapter 15, and displayed either by publication in the Federal Register or by other appropriate means, such as on the related collection instrument or form, if applicable. The display of OMB control numbers in certain-EPA regulations is consolidated in 40 CFR part 9.

Abstract: The National Emissions Standards for Hazardous Air Pollutants (NESHAP) for Marine Tank Vessel Loading Operations were proposed on May 13, 1994, promulgated on September 19, 1995, and a proposed amendment on October 21, 2010 was promulgated on April 21, 2011.

These regulations apply maximum achievable control technology (MACT) standards to existing facilities and new facilities that load marine tank vessels with petroleum or gasoline and have aggregate actual Hazardous Air Pollutants (HAP) emissions of 10 tons or more of HAP, or 25 tons or more of all HAP combined. In addition, these regulations apply reasonably available control technology (RACT) standards to facilities with an annual throughput of 10 million or more barrels of gasoline or 200 million or more barrels of crude oil. This ICR also covers owners or operators of existing marine tank vessel loading operations (MTVLO) that emit less than 10 tons per year of each individual HAP, and less than 25 tons/year of all HAP combined, located at major sources of HAP that loads more than 1 million barrels/yr of gasoline, as well as owners or operators of existing off-shore terminals that load gasoline.

Owners or operators of marine tank vessel loading facilities subject to the rule must maintain a file of these measurements, and retain the file for at least five years following the date of such measurements, maintenance reports, and records. All reports are sent to the delegated state or local authority. In the event that there is no such delegated authority, the reports are sent directly to the EPA regional office. This information is being collected to assure compliance with 40 CFR part 63, subpart Y and 40 CFR part 63, subpart A, as authorized in section 112 and 114(a) of the Clean Air Act. The required information consists of emissions data and other information that have been determined to be private.

In order to ensure compliance with these standards, adequate reporting and recordkeeping are necessary. In the absence of such information, enforcement personnel would be unable to determine whether the standards are being met on a continuous basis, as required by the Clean Air Act.

Burden Statement: The annual public reporting and recordkeeping burden for this collection of information is estimated to average 12 hours per response. Burden means the total time, effort, or financial resources expended by persons to generate, maintain, retain, or disclose or provide information to or for a Federal agency. This includes the time needed to review instructions; develop, acquire, install, and utilize technology and systems for the purpose of collecting, validating, and verifying information, processing and maintaining, information, and disclosing and providing information. All existing ways will have to adjust to comply with any previously applicable instructions and requirements that have subsequently changed; train personnel to be able to respond to a collection of information; search data sources; complete and review the collection of information; and transmit or otherwise disclose the information.

Respondents/Affected Entities: Marine tank vessel loading operations.

Estimated Number of Respondents: 804.

Frequency of Response: Initially, occasionally, annually, and semiannually.

Estimated Total Annual Hour Burden: 9,872.

Estimated Total Annual Cost: $926,209, which includes $926,209 in labor costs, no capital/startup costs, and no operation and maintenance (O&M) costs.

There is no increase in the number of affected facilities or the number of responses as compared to the previous ICR. There is, however, an increase in the estimated burden cost as currently identified in the OMB Inventory of Approved Burdens. The change in burden cost is due to the use of a more recent labor rates.

Dated: July 21, 2011.
John Moses,
Director, Collection Strategies Division.

[FR Doc. 2011-16038 Filed 6-24-11; 8:45 am]

BILLING CODE 6560-50-P